DEPARTMENT OF HOMELAND SECURITY

Coast Guard

33 CFR Part 100

[Docket No. USCG-2025-0269]

Special Local Regulation; Conch Republic Navy Parade and Battle, Key West, FL

AGENCY: Coast Guard, DHS.

ACTION: Notification of enforcement of regulation.

SUMMARY: The Coast Guard will enforce the special local regulation for the Conch Republic Navy Parade and Battle, in Key West, Florida. Our regulation for recurring Marine Events in Captain of the Port Key West Zone identifies the regulated area for this event. During the enforcement period, no person or vessel may enter, transit through, anchor in, or remain within the regulated area without approval from the Captain of the Port Key West or a designated representative.

DATES: The regulation in 33 CFR 100.701 will be enforced for the Conch Republic Navy Parade and Battle regulated area listed in table 1 to § 100.701, section (B), item no. 1 from 7 p.m. until 8 p.m. on April 25, 2025.

FOR FURTHER INFORMATION CONTACT: If you have questions about this notice, call or email Chief Marine Science Technician Mathew Mason, Sector Key West Waterways Management Department, Coast Guard; telephone (305) 292-8823, email Mathew.R.Mason@uscg.mil.

SUPPLEMENTARY INFORMATION: The Coast Guard will enforce the special local regulation in 33 CFR 100.701 for the Conch Republic Navy Parade and Battle regulated area listed in paragraph (b), item no. 1 in table 1 to § 100.701, from 7:00 p.m. until 8:00 p.m. on April 25, 2025.

This action is being taken to provide for the safety of life on the navigable waters of the Key West Harbor during the simulated battle event. Sector Key West Zone, § 100.701, table 1, paragraph (b), item no. 1, specifies the location of the regulated area for Conch Republic Navy Parade and Battle. During the enforcement period, as reflected in § 100.701(c), if you are the operator of a vessel in the regulated area you must comply with directions from the COTP Key West or designated representative.

In addition to this notice of enforcement in the Federal Register, the Coast Guard plans to provide notice of this enforcement period via the Local Notice to Mariners, Broadcast Notice to Mariners, and on-scene designated representatives.

Dated: April 1, 2025.
Jason D. Ingram,
Captain, U.S. Coast Guard, Captain of the Port Key West.

[FR Doc. 2025-06184 Filed 4-10-25; 8:45 am]

BILLING CODE 9110-04-P